SMALL BUSINESS ADMINISTRATION

[Disaster Declaration #15238 and #15239; WYOMING Disaster Number WY-00039]

Presidential Declaration Amendment of a Major Disaster for Public Assistance Only for the State of Wyoming

AGENCY: U.S. Small Business Administration.

ACTION: Amendment 1.

SUMMARY: This is an amendment of the Presidential declaration of a major disaster for Public Assistance Only for the State of Wyoming (FEMA-4327-DR), dated August 5, 2017.

DATES: Issued on 09/01/2017.

Physical Loan Application Deadline Date: 10/04/2017.

Economic Injury (EIDL) Loan Application Deadline Date: 05/07/2018.

ADDRESS: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for Private Non-Profit organizations in the State of Wyoming, dated 08/05/2017, is hereby amended to include the following areas as adversely affected by the disaster.

Incident: Flooding.

Incident Period: 06/07/2017 through 06/22/2017.

Primary Counties: Washakie

All other information in the original declaration remains unchanged.

(Catalog of Federal Domestic Assistance Number 59008)

James E. Rivera,
Associate Administrator for Disaster Assistance.

[FR Doc. 2017-19124 Filed 9-8-17; 8:45 am]

BILLING CODE 8025-01-P